DEPARTMENT OF TRANSPORTATION

Enabling a Secure Environment for Vehicle-to-Infrastructure Research Workshop; Notice of Public Meeting

AGENCY: ITS Joint Program Office, Research and Innovative Technology Administration, U.S. Department of Transportation.

ACTION: Notice.

The U.S. Department of Transportation (USDOT) Intelligent Transportation System Joint Program Office (ITS JPO) will hold a free public meeting on the Vehicle-to-Infrastructure (V2I) research program on April 18, 2012, 8:30 a.m.-3:30 p.m. at ITS America, 1100 17th Street NW., Suite 1200, Washington DC 20036, 202-484-4847. The meeting will also be available by webinar. Persons planning to attend the workshop or participate in the webinar should register online no later than April 15, 2012 at http://www.itsa.org/v2i.

This public meeting is being held in support of the V2I for Safety Program for Connected Vehicles Initiative lead by the ITS JPO. The meeting will allow primary stakeholders and subject matter experts to review concepts of how selected safety applications will work that involve infrastructure components. The outcome of this meeting will provide customer based feedback on how these safety applications can be developed to achieve maximum effectiveness while minimizing cost.

The purpose of the V2I program is to enable the development of vehicle based applications and safety systems that will assist drivers in avoiding crashes. As part of this program, FHWA's role is to develop roadside equipment and other enabling technologies that will enable these safety applications to function properly.

If you have any questions or you need any special accommodations, please send an email to Adam Hopps at Ahopps@itsa.org.

Issued in Washington, DC, on the 15th day of March 2012.
Shelley Row,
Director, ITS Joint Program Office.

[FR Doc. 2012-6775 Filed 4-5-12; 8:45 am]

BILLING CODE 4910-HY-P